DEPARTMENT OF ENERGY

Federal Energy Regulatory Commission

Combined Notice of Filings #1

Take notice that the Commission received the following electric corporate filings:

Docket Numbers: EC22-47-000.

Applicants: Berkshire Hathaway Inc.

Description: Application for Authorization Under Section 203 of the Federal Power Act of Berkshire Hathaway Inc.

Filed Date: 3/21/22.

Accession Number: 20220321-5202.

Comment Date: 5 p.m. ET 4/11/22.

Take notice that the Commission received the following exempt wholesale generator filings:

Docket Numbers: EG22-71-000.

Applicants: Powell River Energy Inc.

Description: Powell River Energy Inc. submit Notice of Self-Certification Exempt Wholesale Generator Status.

Filed Date: 3/23/22.

Accession Number: 20220323-5048.

Comment Date: 5 p.m. ET 4/13/22.

Take notice that the Commission received the following electric rate filings:

Docket Numbers: ER17-1368-001; ER17-1669-001; ER18-1237-000; ER19-318-001.

Applicants: Cleco Power LLC, Cleco Power LLC, Cleco Power LLC, Cleco Power LLC.

Description: Midcontinent Independent System Operator, Inc. submits Compliance Refund Report Associated with Teche 3 System Support Resource Agreements.

Filed Date: 3/18/22.

Accession Number: 20220318-5194.

Comment Date: 5 p.m. ET 4/8/22.

Docket Numbers: ER17-2515-007.

Applicants: Chambers Cogeneration, Limited Partnership.

Description: Compliance filing: Response to Deficiency Letter to be effective N/A.

Filed Date: 3/23/22.

Accession Number: 20220323-5144.

Comment Date: 5 p.m. ET 4/13/22.

Docket Numbers: ER22-59-000.

Applicants: Navajo Tribal Utility Authority.

Description: Amendment to October 6, 2021 Petition for Limited Waiver of Navajo Tribal Utility Authority.

Filed Date: 3/4/22.

Accession Number: 20220304-5296.

Comment Date: 5 p.m. ET 3/25/22.

Docket Numbers: ER22-1205-000.

Applicants: Evergy Kansas Central, Inc.

Description: Formal Challenge of Kansas Transmission Customers to March 7, 2022 Annual Informational Filing by Evergy Kansas Central, Inc.

Filed Date: 3/22/22.

Accession Number: 20220322-5196.

Comment Date: 5 p.m. ET 4/21/22.

Docket Numbers: ER22-1412-000.

Applicants: Liberty County Solar Project, LLC.

Description: Request for Limited Tariff Waiver, et al. of Liberty County Solar Project, LLC.

Filed Date: 3/21/22.

Accession Number: 20220321-5136.

Comment Date: 5 p.m. ET 4/11/22.

Docket Numbers: ER22-1430-000.

Applicants: Alabama Power Company, Georgia Power Company, Mississippi Power Company.

Description: § 205(d) Rate Filing: Alabama Power Company submits tariff filing per 35.13(a)(2)(iii: EDF Renewables Development (Lightyear Solar) LGIA Filing to be effective 3/9/2022.

Filed Date: 3/23/22.

Accession Number: 20220323-5090.

Comment Date: 5 p.m. ET 4/13/22.

Docket Numbers: ER22-1431-000.

Applicants: California Independent System Operator Corporation.

Description: § 205(d) Rate Filing: 2022-03-23 Reliability Demand Response Resource (RDRR) Enhancements to be effective 12/31/9998.

Filed Date: 3/23/22.

Accession Number: 20220323-5091.

Comment Date: 5 p.m. ET 4/13/22.

Docket Numbers: ER22-1432-000.

Applicants: Arizona Public Service Company.

Description: § 205(d) Rate Filing: OATT—Time Zone Synchronization to be effective 5/23/2022.

Filed Date: 3/23/22.

Accession Number: 20220323-5104.

Comment Date: 5 p.m. ET 4/13/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 23, 2022.
Debbie-Anne A. Reese,
Deputy Secretary.

[FR Doc. 2022-06567 Filed 3-28-22; 8:45 am]

BILLING CODE 6717-01-P